DEPARTMENT OF THE INTERIOR

Bureau of Land Management

[LLAK910000 L13100000.DB0000 LXSINSSI0000]

Second Call for Nominations: North Slope Science Initiative, Science Technical Advisory Panel

AGENCY: Bureau of Land Management, Alaska State Office, North Slope Science Initiative, Interior.

ACTION: Notice.

SUMMARY: This notice announces a second call for nominations to serve on the North Slope Science Initiative, Science Technical Advisory Panel, in accordance with the provisions of the Federal Advisory Committee Act (FACA) of 1972, as amended.

DATES: All nominations and required attachments must be received no later than 30 days after the publication of this notice.

FOR FURTHER INFORMATION CONTACT: John F. Payne, Executive Director, North Slope Science Initiative, AK-910, c/o Bureau of Land Management, 222 W. Seventh Avenue, #13, Anchorage, AK 99513, 907-271-3431 or email jpayne@blm.gov.

SUPPLEMENTARY INFORMATION: The legislative purpose (Section 348, Energy Policy Act of 2005, Pub. L. 109-58) of the North Slope Science Initiative, Science Technical Advisory Panel is to advise the North Slope Science Initiative Oversight Group on issues such as identifying and prioritizing inventory, monitoring and research needs, and providing other scientific information as requested by the Oversight Group. The Oversight Group membership includes the Alaska Regional Directors of the U.S. Fish and Wildlife Service, National Park Service, Bureau of Ocean Energy Management and National Marine Fisheries Service; the Bureau of Land Management Alaska State Director; the Commissioners of the Alaska Departments of Natural Resources and Fish and Game; the Mayor of the North Slope Borough; and the President of Arctic Slope Regional Corporation. Advisory members of the Oversight Group include the Regional Executive, U.S. Geological Survey; Deputy Director, U.S. Arctic Research Commission; Alaska Regional Director, National Weather Service; and the Regional Coordinator for the National Oceanographic and Atmospheric Administration.

The Science Technical Advisory Panel consists of a representative group of not more than 15 scientists and technical experts from diverse professions and interests, including the oil and gas industry, subsistence users, Alaska Native entities, conservation organizations, and academia, as determined by the Secretary of the Interior. The members are selected from among, but not limited to, the following disciplines: North Slope traditional and local knowledge, landscape ecology, petroleum engineering, civil engineering, geology, sociology, cultural anthropology, economics, ornithology, oceanography, fisheries, marine biology, landscape ecology, and climatology.

Duties of the Science Technical Advisory Panel are solely advisory to the Oversight Group, which will provide direction regarding priorities for decisions needed for the management of resources on the North Slope of Alaska and the adjacent marine environment. Duties could include, but are not limited to, the following:

a. Advise the Oversight Group on science planning and relevant inventory, monitoring and research projects necessary for management decisions;

b. Advise the Oversight Group on scientific information relevant to the mission of the North Slope Science Initiative;

c. Review selected reports and advise the Oversight Group on their content and relevance;

d. Review ongoing scientific programs of the North Slope Science Initiative member organizations at the request of the membership to promote compatibility in methodologies and compilation of duties;

e. Advise the Oversight Group on how to ensure scientific products generated through the North Slope Science Initiative activities are of the highest technical quality;

f. Provide scientific advice as requested by the Oversight Group; and,

g. Coordinate with groups, committees and sub-committees as requested by the Oversight Group.

The Executive Director, North Slope Science Initiative, will serve as the Designated Federal Officer of the Science Technical Advisory Panel.

Qualifications and Procedures Required for Nomination

All membership will consist of individuals having a minimum of five years of work experience in the Arctic in their field of expertise. Individuals will be selected from among, but not limited to, those disciplines and entities described above. Any individual or organization may nominate one or more persons, including themselves, to serve on the Science Technical Advisory Panel. Members will be appointed for three year terms. Current Science Technical Advisory Panel appointees may be reappointed for additional terms at the discretion of the Secretary of the Interior. Under current Administration policy, federally registered lobbyists may not serve on the panel.

How To Nominate

Nomination forms may be obtained from the North Slope Science Initiative Web site (http://www.northslope.org), or from the Executive Director, North Slope Science Initiative (see “For Further Information Contact” section, above). To make a nomination, or self-nominate, submit a completed nomination form with a minimum of one letter of reference that describes the nominee's qualifications to serve on the Science Technical Advisory Panel. The professional discipline the nominee would represent should be identified in the reference letter of nomination and in the nomination form. Nominees may be scientists and technical experts from diverse professions and interests, including, but not limited to, oil and gas industry, subsistence users, Alaska Native entities, conservation organizations, or academia. Nominees appointed to serve on the Science Technical Advisory Panel will serve only in their professional capacity and will not serve to represent any group, agency or entity with whom they may be affiliated.

The Executive Director, North Slope Science Initiative, will collect the nomination forms and letters of reference and distribute them to the Oversight Group for consideration. The collective recommendations of the Oversight Group will be submitted to the Secretary of the Interior who has the responsibility for making appointments.

Members of the Science Technical Advisory Panel will serve without monetary compensation, but will be reimbursed for travel, lodging and per diem expenses to participate in announced meetings.

Certification:

I hereby certify the Science Technical Advisory Panel is necessary and in the public interest in connection with the Secretary of the Interior's responsibilities, and in compliance with Section 348, Energy Policy Act of 2005 (Pub. L. 109-58).

Authority: 43 CFR 1784.4-1.

Bud C. Cribley,
State Director.

[FR Doc. 2013-22078 Filed 9-10-13; 8:45 am]

BILLING CODE 1310-JA-P